ENVIRONMENTAL PROTECTION AGENCY

[FRL OP-OFA-125]

Environmental Impact Statements; Notice of Availability

Responsible Agency: Office of Federal Activities, General Information 202-564-5632 or https://www.epa.gov/nepa.

Weekly receipt of Environmental Impact Statements (EIS)

Filed April 29, 2024 10 a.m. EST Through May 6, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240078, Draft Supplement, BLM, USFWS, UT, Supplemental Environmental Impact Statement to Reconsider a Highway Right-of-Way Application and Associated Amendment of an Incidental Take Permit, Washington County, Utah, Comment Period Ends: 06/24/2024, Contact: Dawna Ferris-Rowley 435-688-3200.

EIS No. 20240079, Final, NMFS, NC, Final Amendment 15 to the 2006 Consolidated Atlantic Highly Migratory Species Fishery Management Plan, Review Period Ends: 06/10/2024, Contact: Steve Durkee 301-427-8503.

Dated: May 6, 2024.
Cindy S. Barger,
Director, NEPA Compliance Division, Office of Federal Activities.

[FR Doc. 2024-10218 Filed 5-9-24; 8:45 am]

BILLING CODE 6560-50-P